DEPARTMENT OF ENERGY

Federal Energy Regulatory Commission

[Docket No. ER99-1971-007]

California Independent System Operator Corporation; Notice of Filing

May 24, 2000.

Take notice that on May 19, 2000, the California Independent System Operator Corporation (ISO) tendered for filing a Notice of Implementation, dated May 17, 2000, which specifies that, effective June 1, 2000, the ISO will implement electronic dispatch of resources through its Automated Dispatching System and will require that Scheduling Coordinators participating in the ISO's Real-Time Energy market be capable of receiving electronic dispatch instructions beginning on that date.

The ISO states that this filing has been served on all parties listed on the official service list in the above-referenced docket.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before June 9, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-14124 Filed 6-5-00; 8:45 am]

BILLING CODE 6717-01-M